OFFICE OF PERSONNEL MANAGEMENT

Submission for OMB Review: Comment Request for Clearance of a New Information Collection; Standard Form 86 Certification (SF 86C)

AGENCY: Office of Personnel Management.

ACTION: Notice.

SUMMARY: In accordance with the Paperwork Reduction Act of 1995 (Public Law 104-13, May 22, 1995) and 5 CFR 1320.5(a)(1)(iv), this notice announces that the U.S. Office of Personnel Management (OPM) has submitted to the Office of Management and Budget (OMB) a request for clearance of a new information collection.

The Standard Form 86, Questionnaire for National Security Positions, is completed by persons performing or seeking to perform national security duties for the Federal government. That form is used by OPM and by other Federal agencies to initiate the background investigation required to determine placement in national security positions in accordance with 42 U.S.C. 2165, 22 U.S.C. 2585, E.O. 10450, Security Requirements for Government Employment, issued April 27, 1953, and E.O. 12968, Access to Classified Information, issued August 2, 1995.

There are many situations where individuals are required to fill out an SF 86 when the sole purpose is to determine if any information on a previously executed SF 86 has changed. This requires extensive execution even if nothing has changed.

The information collection being proposed is a certification device (tentatively numbered SF 86C) that allows reporting of changes in previously reported information on the SF 86. Certification will be in lieu of executing a new SF 86, and will allow the individual to indicate that there have been no changes in the data provided on the most recently filed SF 86, or, where there are changes, to provide the new changed information. No investigation will be initiated based solely on the execution of this form. However, information provided on this form may provide cause to require execution of a new SF 86 in order for an investigation to be scheduled. This is no different than if an SF 86 had been used in the first place to “update” information. This certification device will ask for nothing more or less than is asked for on the current SF 86.

OPM published a request for comments on this information device in the Federal Register on November 19, 1999 (Vol. 64, No. 223, Page 63349). A total of 51 responses were received; 42 from private citizens and 9 from Federal agencies. Although a few were neutral (e.g., made a suggestion), the vast majority were very supportive of this form. Many citizen responses were from individuals in private industry who have to undergo periodic screening for security clearances at their job. Some were from Facility Security Officers in industry who spoke on behalf of their employer in supporting the form. We have considered all the comments and revised the form accordingly.

It was estimated that upwards of one and one-quarter (1.25) hours would be saved by individuals filling out this form versus executing a complete Standard Form 86. Representatives of private industry who are very involved in working on classified projects were asked to comment on the number of individuals who would be favorably affected by using this form. Industry estimated that over 10,000 people would benefit from this form. We opine that that estimate is conservative. Federal employees and employers would benefit equally, and the number would be greater than the estimate of private industry. OPM estimates at least 50,000 respondents would complete only the SF 86C, taking 15 minutes to do so, involving an annual burden of 12,500 hours, but saving 62,500 hours of burden for those who no longer need to complete a SF 86.

For copies of this request, please contact Mary Beth Smith-Toomey at (202) 606-8358, FAX (202) 418-3251 or by E-Mail at mbtoomey@opm.gov. Please include a mailing address with your request.

DATES: Comments on this proposal should be received no later than October 26, 2001.

ADDRESSES: Send or deliver written comments to:

Richard A. Ferris, Associate Director, Investigations Service, Office of Personnel Management, Room 5416, 1900 E Street, NW., Washington, DC 20415-4000

or

Joseph Lackey, OPM Desk Officer, Office of Information and Regulatory Affairs, Office of Management and Budget, Room 10235, 17th Street and Pennsylvania Avenue, NW., Washington, DC 20503.

FOR FURTHER INFORMATION, CONTACT: John H. Crandell, Chief, Oversight and Technical Assistance Division, Investigations Service, OPM, (202) 606-2084 or fax (202) 606-2390.

Office of Personnel Management.
Kay Coles James,
Director.

[FR Doc. 01-24102 Filed 9-25-01; 8:45 am]

BILLING CODE 3206-40-P